FEDERAL MARITIME COMMISSION

Sunshine Act Meeting

AGENCY: Federal Maritime Commission.

TIME AND DATE: February 11, 2015; 10:00 a.m.

PLACE: 800 N. Capitol Street NW., First Floor Hearing Room, Washington, DC.

STATUS: The first portion of the meeting will be held in Open Session; the second in Closed Session.

MATTERS TO BE CONSIDERED:

Open Session

1. Briefing on FMC Continuity of Operations Plan

2. Briefing on FMC Information Technology Upgrade

Closed Session

1. Briefing on Los Angeles and Long Beach Port Infrastructure and Environmental Programs Cooperative Working Agreement, FMC Agreement No. 201219

CONTACT PERSON FOR MORE INFORMATION: Karen V. Gregory, Secretary, (202) 523-5725.

Karen V. Gregory,
Secretary.

[FR Doc. 2015-02558 Filed 2-4-15; 4:15 pm]

BILLING CODE 6730-01-P